DEPARTMENT OF TRANSPORTATION

Surface Transportation Board

[STB Finance Docket No. 33670]

The Indiana Rail Road Company—Operation Exemption—Monon Rail Preservation Corporation

The Indiana Rail Road Company (INRD), a Class III rail carrier, has filed a verified notice of exemption under 49 CFR 1150.41 to operate the property of the Monon Rail Preservation Corporation, consisting of a line between milepost Q217.67, at Hunters, and milepost Q213.41, at Ellettsville, a distance of 4.26 miles in Monroe County, IN.

Because INRD's projected annual revenues will exceed $5 million, INRD has certified to the Board on December 26, 2000, that the required notice of the transaction was posted at the workplace of the employees on the affected line on December 20, 2000. See 49 CFR 1150.42(e). According to INRD's certification, the employees on the affected line are not represented by a labor organization and therefore no notice to labor organizations was required. INRD stated in its verified notice that the transaction will become effective on the date of the Board's approval of INRD's operation of the line. The earliest the transaction can be consummated is February 24, 2001 (60 days after INRD's certification to the Board that it had complied with the Board's rule at 49 CFR 1150.42(e)).

If the notice contains false or misleading information, the exemption is void ab initio. Petitions to revoke the exemption under 49 U.S.C. 10502(d) may be filed at any time. The filing of a petition to revoke does not automatically stay the transaction.

An original and 10 copies of all pleadings, referring to STB Finance Docket No. 33670, must be filed with the Surface Transportation Board, Office of the Secretary, Case Control Unit, 1925 K Street, NW., Washington, DC 20423-0001. In addition, a copy of each pleading must be served on John Broadley, Esq., John H. Broadley & Associates, 1054 31st Street, NW., Suite 200, Washington, DC 20007.

Board decisions and notices are available on our website at http://www.stb.dot.gov.

By the Board, David M. Konschnik, Director, Office of Proceedings.
Decided: February 14, 2001.
Vernon A. Williams,
Secretary.

[FR Doc. 01-4390 Filed 2-21-01; 8:45 am]

BILLING CODE 4915-00-P